DEPARTMENT OF AGRICULTURE

Natural Resources Conservation Service

South Kona Watershed, Hawaii County, HI

AGENCY: Natural Resources Conservation Service.

ACTION: Notice of intent to prepare an environmental impact statement.

SUMMARY: Pursuant to section 102(2) (C) of the National Environmental Policy Act of 1969; the Council on Environmental Quality Guidelines (40 CFR part 1500); and the Natural Resources Conservation Service Guidelines (7 CFR part 650); the Natural Resources Conservation Service, U.S. Department of Agriculture, gives notice that an environmental impact statement is being prepared for the South Kona Watershed, Hawaii County, Hawaii.

FOR FURTHER INFORMATION CONTACT: Lawrence T. Yamamoto, State Conservationist, Natural Resources Conservation Service, 300 Ala Moana Blvd., Rm. 4-118, PO Box 50004, Honolulu, Hawaii 96850-0050, Telephone: (808) 541-2600 ext. 105.

SUPPLEMENTARY INFORMATION: The preliminary feasibility study of this federally assisted action indicates that the project may cause significant local, regional and national impacts on the environment. As a result of these findings, Lawrence T. Yamamoto, State Conservationist, has determined that the preparation and review of an environmental impact statement is needed for this project.

The project concerns alleviating agriculture water shortages and providing a stable, adequate, and affordable supply of agricultural water to farmers and other agricultural producers in the South Kona District of the Island of Hawai‘i. Alternatives under consideration to reach these objectives include a full build-out alternative involving the installation of twelve wells on private and public lands that would provide the agricultural area of South Kona with 12 million gallons of supplemental irrigation water per day; a three-well alternative that would supply 3 million gallons a day to address near-term irrigation needs in the project area; a two well alternative that would supply 2 million gallons of supplemental irrigation water a day for near-term irrigation needs; and the no action alternative, which will consider no change to the current irrigation water sources for the watershed.

A draft environmental impact statement will be prepared and circulated for review by agencies and the public. The Natural Resources Conservation Service invites participation and consultation of agencies and individuals that have special expertise, legal jurisdiction, or interest in the preparation of the draft environmental impact statement. Meetings will be held at Yano Hall, County of Hawaii Department of Parks and Recreation, 82-6156 Mamalahoa Highway, Captain Cook, County of Hawaii on Tuesday, June 21, 2005 from 1-3 p.m. and at MacFarms of Hawaii, Picker Shed 89-406 Mamalohoa Hwy. at the 84 mile mark, from 6-8 p.m. to determine the scope of the evaluation of the proposed action. Further information on the proposed action or the scoping meeting may be obtained from Lawrence T. Yamamoto, State Conservationist, at the above address or telephone number.

(This activity is listed in the Catalog of Federal Domestic Assistance under No. 10.904—Watershed Protection and Flood Prevention—and is subject to the provisions of Executive Order 12372 which requires intergovernmental consultation with State and local officials.)

Dated: May 23, 2005.
Lawrence T. Yamamoto,
State Conservationist for Hawaii & Director for the Pacific Basin Area.

[FR Doc. 05-11268 Filed 6-6-05; 8:45 am]

BILLING CODE 3410-16-M